DEPARTMENT OF ENERGY

Federal Energy Regulatory Commission

Combined Notice of Filings #2

Take notice that the Commission received the following electric corporate filings:

Docket Numbers: EC21-51-000.

Applicants: AL Sandersville, LLC.

Description: Application for Authorization Under Section 203 of the Federal Power Act of AL Sandersville, LLC.

Filed Date: 2/12/21.

Accession Number: 20210212-5207.

Comments Due: 5 p.m. ET 3/5/21.

Docket Numbers: EC21-52-000.

Applicants: WV Wind Holdco LLC, NedPower Mount Storm LLC.

Description: Joint Application for Authorization Under Section 203 of the Federal Power Act of WV Wind Holdco LLC, et al.

Filed Date: 2/12/21.

Accession Number: 20210212-5230.

Comments Due: 5 p.m. ET 3/5/21.

Take notice that the Commission received the following electric rate filings:

Docket Numbers: ER12-637-007.

Applicants: Calhoun Power Company, LLC.

Description: Triennial Market Power Analysis for Southeast Region of Calhoun Power Company, LLC for Study Period 2017-2018.

Filed Date: 12/31/20.

Accession Number: 20201231-5088.

Comments Due: 5 p.m. ET 3/1/21.

Docket Numbers: ER21-502-001.

Applicants: New York Independent System Operator, Inc.

Description: Tariff Amendment: Deficiency Response: NYISO Demand Curve Reset 2021-2025 to be effective 3/15/2021.

Filed Date: 2/12/21.

Accession Number: 20210212-5124.

Comments Due: 5 p.m. ET 3/5/21.

Docket Numbers: ER21-700-001.

Applicants: Midcontinent Independent System Operator, Inc.

Description: Tariff Amendment: 2021-02-12_Amendment to Emergency Pricing Filing to be effective 6/1/2021.

Filed Date: 2/12/21.

Accession Number: 20210212-5192.

Comments Due: 5 p.m. ET 3/5/21.

Docket Numbers: ER21-708-001.

Applicants: PJM Interconnection, L.L.C.

Description: Tariff Amendment: Request to Defer Action: ISA, SA No. 5621; Queue No. AF1-195 to be effective 12/31/9998.

Filed Date: 2/12/21.

Accession Number: 20210212-5049.

Comments Due: 5 p.m. ET 3/5/21.

Docket Numbers: ER21-716-001.

Applicants: PJM Interconnection, L.L.C.

Description: Tariff Amendment: Request to Defer Action: ISA, SA No. 5692; Queue No. AF1-198 to be effective 12/31/9998.

Filed Date: 2/12/21.

Accession Number: 20210212-5050.

Comments Due: 5 p.m. ET 3/5/21.

Docket Numbers: ER21-1112-000.

Applicants: Dominion Energy South Carolina, Inc.

Description: § 205(d) Rate Filing: Southeast Energy Exchange Mkt Agr Concurrence to be effective 5/13/2021.

Filed Date: 2/12/21.

Accession Number: 20210212-5052.

Comments Due: 5 p.m. ET 3/14/21.

Docket Numbers: ER21-1136-000.

Applicants: Union Electric Company.

Description: § 205(d) Rate Filing: Co-Tenancy and Shared Facilities Agreement for Outlaw Wind Project to be effective 1/14/2021.

Filed Date: 2/12/21.

Accession Number: 20210212-5173.

Comments Due: 5 p.m. ET 3/5/21.

Docket Numbers: ER21-1137-000.

Applicants: NorthWestern Corporation.

Description: Compliance filing: Compliance Filing re Authority to Transact at MBR in the EIM, Docket No. 11-1858 to be effective 2/8/2021.

Filed Date: 2/12/21.

Accession Number: 20210212-5212.

Comments Due: 5 p.m. ET 3/5/21.

Docket Numbers: ER21-1138-000.

Applicants: ITC Midwest LLC.

Description: Tariff Cancellation: Notice of Cancellation of Rate Schedule No. 138 to be effective 10/5/2020.

Filed Date: 2/12/21.

Accession Number: 20210212-5219.

Comments Due: 5 p.m. ET 3/5/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 12, 2021.
Nathaniel J. Davis, Sr.,
Deputy Secretary.

[FR Doc. 2021-03382 Filed 2-18-21; 8:45 am]

BILLING CODE 6717-01-P